DEPARTMENT OF ENERGY

Federal Energy Regulatory Commission

Combined Notice of Filings #2

Take notice that the Commission received the following electric rate filings:

Docket Numbers: ER10-1840-002.

Applicants: Blythe Energy Inc.

Description: Blythe Energy Inc. MBR Tariff to be effective 5/18/2013.

Filed Date: 6/14/13.

Accession Number: 20130614-5001.

Comments Due: 5 p.m. ET 7/5/13.

Docket Numbers: ER13-1380-002.

Applicants: New York Independent System Operator, Inc.

Description: NYISO Amendment to its June 12 NCZ Deficiency Letter Response to be effective 7/1/2013.

Filed Date: 6/14/13.

Accession Number: 20130614-5087.

Comments Due: 5 p.m. ET 6/21/13.

Docket Numbers: ER13-1504-001.

Applicants: SWG Arapahoe, LLC.

Description: Amendment to Application for Market-Based Rate Authority to be effective 6/10/2013.

Filed Date: 6/14/13.

Accession Number: 20130614-5123.

Comments Due: 5 p.m. ET 6/28/13.

Docket Numbers: ER13-1685-000.

Applicants: Southern California Edison Company.

Description: Southern California Edison Company LGIA with KM Acquisitions LLC to be effective 5/15/2013.

Filed Date: 6/14/13.

Accession Number: 20130614-5002.

Comments Due: 5 p.m. ET 7/5/13.

Docket Numbers: ER13-1686-000.

Applicants: Niagara Mohawk Power Corporation, New York Independent System Operator, Inc.

Description: SGIA No. 2006 between National Grid and Synergy Biogas to be effective 8/14/2013.

Filed Date: 6/14/13.

Accession Number: 20130614-5059.

Comments Due: 5 p.m. ET 7/5/13.

Docket Numbers: ER13-1687-000.

Applicants: Arizona Public Service Company.

Description: Notice of Cancellation of Service Agreement No. 129 with Salt River Project Agricultural Improvement and Power District Merchant Group.

Filed Date: 6/14/13.

Accession Number: 20130614-5065.

Comments Due: 5 p.m. ET 7/5/13.

Docket Numbers: ER13-1688-000.

Applicants: Midcontinent Independent System Operator, Inc.

Description: Midcontinent Independent System Operator, Inc. 06-14-2013 SA 2524 ITC-DTE Electric GIA (J235) to be effective 6/15/2013.

Filed Date: 6/14/13.

Accession Number: 20130614-5066.

Comments Due: 5 p.m. ET 7/5/13.

Docket Numbers: ER13-1689-000.

Applicants: AEP Generation Resources Inc.

Description: AEP Generation Resources Inc. Reactive Supply and Voltage Control from Generation Sources Service to be effective 1/1/2014.

Filed Date: 6/14/13.

Accession Number: 20130614-5093.

Comments Due: 5 p.m. ET 7/5/13.

Docket Numbers: ER13-1690-000.

Applicants: Indiana Michigan Power Company.

Description: Indiana Michigan Power Company Reactive Supply and Voltage Control from Generation Sources Service Concurrence to be effective 1/1/2014.

Filed Date: 6/14/13.

Accession Number: 20130614-5099.

Comments Due: 5 p.m. ET 7/5/13.

Docket Numbers: ER13-1691-000.

Applicants: Kentucky Power Company.

Description: Kentucky Power Company Reactive Supply and Voltage Control From Generation Sources Service Concurrence to be effective 1/1/2014.

Filed Date: 6/14/13.

Accession Number: 20130614-5101.

Comments Due: 5 p.m. ET 7/5/13.

Docket Numbers: ER13-1692-000.

Applicants: Florida Power & Light Company.

Description: FPL and Miami-Dade County Service Agreement No. 124 to be effective 8/13/2013.

Filed Date: 6/14/13.

Accession Number: 20130614-5106.

Comments Due: 5 p.m. ET 7/5/13.

Docket Numbers: ER13-1693-000.

Applicants: Appalachian Power Company.

Description: Appalachian Power Company Reactive Supply and Voltage Control from Generation Sources Service to be effective 1/1/2014.

Filed Date: 6/14/13.

Accession Number: 20130614-5107.

Comments Due: 5 p.m. ET 7/5/13.

Docket Numbers: ER13-1694-000.

Applicants: Florida Power & Light Company.

Description: FPL and PBSWA Original Service Agreement No. 313 to be effective 6/15/2013.

Filed Date: 6/14/13.

Accession Number: 20130614-5108.

Comments Due: 5 p.m. ET 7/5/13.

Docket Numbers: ER13-1695-000.

Applicants: Midcontinent Independent System Operator, Inc.

Description: Midcontinent Independent System Operator, Inc. 06-14-2013 Escanaba Amended Schedule 43 v3.0.0 to be effective 6/15/2013.

Filed Date: 06/14/2013.

Accession Number: 20130614-5148.

Comment Date: 5 p.m. ET 7/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2013.
Nathaniel J. Davis, Sr.,
Deputy Secretary.

[FR Doc. 2013-15397 Filed 6-26-13; 8:45 am]

BILLING CODE 6717-01-P